DEPARTMENT OF COMMERCE

National Oceanic and Atmospheric Administration

50 CFR Part 679

[Docket No. 230306-0065; RTID 0648-XD376]

Fisheries of the Exclusive Economic Zone Off Alaska; Exchange of Flatfish in the Bering Sea and Aleutian Islands Management Area

AGENCY: National Marine Fisheries Service (NMFS), National Oceanic and Atmospheric Administration (NOAA), Commerce.

ACTION: Temporary rule; reallocation.

SUMMARY: NMFS is exchanging unused flathead sole Community Development Quota (CDQ) for rock sole CDQ acceptable biological catch (ABC) reserves in the Bering Sea and Aleutian Islands management area. This action is necessary to allow the 2023 total allowable catch of rock sole in the Bering Sea and Aleutian Islands management area to be harvested.

DATES: Effective November 20, 2023 through December 31, 2023.

FOR FURTHER INFORMATION CONTACT: Steve Whitney, 907-586-7228.

SUPPLEMENTARY INFORMATION: NMFS manages the groundfish fishery in the Bering Sea and Aleutian Islands management area (BSAI) according to the Fishery Management Plan for Groundfish of the Bering Sea and Aleutian Islands Management Area (FMP) prepared by the North Pacific Fishery Management Council under authority of the Magnuson-Stevens Fishery Conservation and Management Act (Magnuson-Stevens Act). Regulations governing fishing by U.S. vessels in accordance with the FMP appear at subpart H of 50 CFR part 600 and 50 CFR part 679.

The 2023 flathead and rock sole CDQ reserves specified in the BSAI are 3,799 metric tons (mt) and 7,062 mt as established by the final 2023 and 2024 harvest specifications for groundfish in the BSAI (88 FR 14926, March 10, 2023) and correction (88 FR 18258, March 28, 2023). The 2023 flathead sole and rock sole CDQ ABC reserves are 3,193 mt and 5,962 mt as established by the final 2023 and 2024 harvest specifications for groundfish in the BSAI (88 FR 14926, March 10, 2023) and correction (88 FR 18258, March 28, 2023).

The Norton Sound Economic Development Corporation has requested that NMFS exchange 400 mt of flathead sole CDQ reserves for 400 mt of rock sole CDQ ABC reserves under § 679.31(d). Therefore, in accordance with § 679.31(d), NMFS exchanges 400 mt of flathead sole CDQ reserves for 400 mt of rock sole CDQ ABC reserves in the BSAI. This action also decreases and increases the TACs and CDQ ABC reserves by the corresponding amounts. Tables 11 and 13 of the final 2023 and 2024 harvest specifications for groundfish in the BSAI (88 FR 14926, March 10, 2023) and correction (88 FR 18258, March 28, 2023) are further revised as follows:

Table 11-Final 2023 Community Development Quota (CDQ) Reserves, Incidental Catch Amounts (ICAs), and Amendment 80 Allocations of the Aleutian Islands Pacific Ocean Perch and BSAI Flathead Sole, Rock Sole, and Yellowfin Sole TACs
[Amounts are in metric tons]
Sector | Pacific ocean perch: Eastern aleutian district | Pacific ocean perch: Central aleutian district | Pacific ocean perch: Western aleutian district | Flathead sole: BSAI | Rock sole: BSAI | Yellowfin sole: BSAI
TAC | 8,152 | 5,648 | 12,000 | 35,100 | 66,400 | 230,000
CDQ | 872 | 604 | 1,284 | 3,399 | 7,462 | 24,610
ICA | 100 | 60 | 10 | 3,000 | 6,000 | 4,000
BSAI trawl limited access | 718 | 498 | 214 |  |  | 45,498
Amendment 80 | 6,462 | 4,485 | 10,492 | 28,702 | 52,938 | 155,892
Note: Sector apportionments may not total precisely due to rounding.

Table 13—Final 2023 and 2024 ABC Surplus, ABC Reserves, Community Development Quota (CDQ) ABC Reserves, and Amendment 80 ABC Reserves in the BSAI for Flathead Sole, Rock Sole, and Yellowfin Sole
[Amounts are in metric tons]
Sector | 2023 Flathead sole | 2023 Rock sole | 2023 Yellowfin sole | 2024 ¹ Flathead sole | 2024 ¹ Rock sole | 2024 ¹ Yellowfin sole
ABC | 65,344 | 121,719 | 378,499 | 66,927 | 119,969 | 462,890
TAC | 35,100 | 66,400 | 230,000 | 35,500 | 66,000 | 230,656
ABC surplus | 30,244 | 55,319 | 148,499 | 31,427 | 53,969 | 232,234
ABC reserve | 30,244 | 55,319 | 148,499 | 31,427 | 53,969 | 232,234
CDQ ABC reserve | 3,593 | 5,562 | 15,889 | 3,363 | 5,775 | 24,849
Amendment 80 ABC reserve | 26,651 | 49,757 | 132,610 | 28,064 | 48,194 | 207,385
¹ The 2024 allocations for Amendment 80 species between Amendment 80 cooperatives and the Amendment 80 limited access sector will not be known until eligible participants apply for participation in the program by November 1, 2023.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the flatfish exchange by the Norton Sound Economic Development Corporation in the BSAI. NMFS was unable to publish a notice providing time for public comment because the most recent, relevant data only became available as of September 8, 2023.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: September 15, 2023.
Jennifer M. Wallace,
Acting Director, Office of Sustainable Fisheries, National Marine Fisheries Service.

[FR Doc. 2023-20362 Filed 9-15-23; 4:15 pm]

BILLING CODE 3510-22-P